DEPARTMENT OF THE INTERIOR

National Park Service

[NPS-SERO-FORA-1579; PPSESEROC3, PMP00UP05.YP0000]

Record of Decision for the General Management Plan, Fort Raleigh National Historic Site, North Carolina

AGENCY: National Park Service, Interior.

ACTION: Notice of Availability.

SUMMARY: Pursuant to 42U.S.C. 4332(2)(C) of the National Environmental Policy Act of 1969, the National Park Service (NPS) announces the availability of the Record of Decision (ROD) for the General Management Plan (GMP) for Fort Raleigh National Historic Site (National Historic Site). On April 25, 2014, the Regional Director, Southeast Region, approved the ROD for the project.

FOR FURTHER INFORMATION CONTACT: Superintendent Barclay Trimble, Fort Raleigh National Historic Site, 1401 National Park Drive, Manteo, NC 27954; telephone (252) 475-9030.

SUPPLEMENTARY INFORMATION: The NPS evaluated three alternatives for managing use and development of the National Historic Site in the GMP Final

Environmental Impact Statement

Alternative A—no action.

Alternative B—The National Historic Site would greatly expand the scope of its partnerships through greater partner involvement in interpretation of the Roanoke Voyages. NPS staff would interpret other national historic site stories.

Alternative C—The preferred alternative, would implement Section 3 of Public Law 101-603, November 16, 1990 by increasing emphasis on research related to parkwide interpretive themes and legislative mandates. The National Historic Site would continue its partnership with the First Colony Foundation, establish partnerships with organizations that focus on natural and cultural resource topics, and include archeology as a significant aspect of the research program at the National Historic Site. Alternative C would provide a comprehensive park-wide approach to resource and visitor use management. Specific management zones detailing acceptable resource conditions, visitor experience, use levels, appropriate activities and development would be applied to historic site lands consistent with this concept. Under Alternative C most current cultural and natural resource management and preservation activities as well as visitor programs and opportunities will continue.

The GMP will guide the management of the monument over the next 20+ years.

The responsible official for this FEIS/GMP is the Regional Director, NPS Southeast Region, 100 Alabama Street SW., 1924 Building, Atlanta, Georgia 30303.

Dated: June 18, 2014.
Sherri L. Fields,
Acting Regional Director Southeast Region.

[FR Doc. 2014-14734 Filed 6-23-14; 8:45 am]

BILLING CODE 4310-JD-P